DEPARTMENT OF COMMERCE

National Oceanic and Atmospheric Administration

50 CFR Part 660

[I.D. 011303A]

Western Pacific Fishery Management Council; Public Meetings

AGENCY: National Marine Fisheries Service (NMFS), National Oceanic and Atmospheric Administration (NOAA), Commerce.

ACTION: Notice of public meetings/public hearings.

SUMMARY: The Western Pacific Fishery Management Council will meet in February (see SUPPLEMENTARY INFORMATION for specific times, dates, and agenda items).

ADDRESSES: The Council meeting will be held at the Governor Pedro P. Tenorio Multipurpose Center, Office of the Governor, Susupe, P.O. Box 10007, Saipan, MP 96950; telephone: 670-664-1014.

FOR FURTHER INFORMATION CONTACT: Kitty M. Simonds, Executive Director; telephone: 808-522-8220.

SUPPLEMENTARY INFORMATION:

Dates and Times

Committee Meetings

The following Standing Committees of the Council will meet on February 11, 2003. Enforcement/Vessel Monitoring System (VMS) from 7:30 a.m. to 9 a.m.; Fishery Rights of Indigenous People from 9 a.m. to 10 a.m.; International Fisheries/Pelagics from 9 a.m. to 12 noon; Bottomfish from 1:30 p.m. to 2:30 p.m.; Ecosystem and Habitat from 2:30 p.m. to 4:30 p.m.; and Executive/Budget and Program from 4:30 p.m. to 5:30 p.m.

In addition, the Council will hear recommendations from its Scientific and Statistical committee (SSC), and other ad hoc groups. Public comment periods will be provided throughout the agenda. The order in which agenda items are addressed may change. The Council will meet as late as necessary to complete scheduled business.

Public Hearings

Public hearings will be held at 4:30 p.m on Wednesday, February 12, 2003, on the issuance of Community Development Program (CDP) Mau Zone bottomfish permits; at 11 a.m. on Thursday, February 13, 2003, on line clippers/bolt cutters, turtle mitigation, southern area closure, seabird mitigation, and longline setting chute; and at 2 p.m. on Thursday, February 13, 2002, on managing Guam's offshore bottomfish fishery. The order in which agenda items are addressed may change. The Council will meet as late as necessary to complete scheduled business.

The agenda during the full Council meeting will include the items listed here:

Wednesday, February 12, 2003

1. Introductions

2. Approval of Agenda

3. Approval of 115th and 116th meeting minutes

4. Island reports

A. American Samoa

B. Guam

C. Hawaii

D. Commonwealth of the Northern Mariana Islands (CNMI)

5. Federal fishery agency and organization reports

A. Department of Commerce

(1) NMFS

(a) Southwest Region, Pacific Island Area Office (PIAO)

(b) Southwest Fisheries Science Center, La Jolla and Honolulu Laboratories

(2) NOAA General Counsel, Southwest Region

(3) National Ocean Service (NOS), National Marine Sanctuaries

(4) NOS, Pacific Services Center

B. Department of the Interior, U.S. Fish and Wildlife Service (USFWS)

C. U.S. State Department

6. Enforcement and VMS

A. U.S. Coast Guard activities

B. NMFS activities

C. Enforcement activities of local agencies

D. Status of violations

E. Report on safety workshop

7. Observer and monitoring programs

A. NMFS, PIAO

(1) American Samoa longline fishery

(2) Northwestern Hawaiian Islands (NWHI) bottomfish fishery

(3) Hawaii longline fishery

B. Native Observer Program

8. Crustaceans fisheries

A. Report on CNMI crustacean fisheries

9. Ecosystems and Habitats

A. CNMI reef fish commercial catch data

B. Report on U.S. Coral Reef Task Force

C. Marianas coral reef survey

D. Report on marine protected areas working group

10. Fishery rights of indigenous people

A. Review Hawaii marine conservation plan

B. Report on Community demonstration projects program

(1) Report on first solicitation

(2) Report on second solicitation

C. CDP, Mau Zone bottomfish permits

D. Public hearing on issuance process for Mau Zone bottomfish permits

The Council will consider alternatives to take initial action on a process for issuing NWHI Mau Zone bottomfish CDP permits. Three alternatives to be considered for selecting participants for the program include a random selection process (lottery), a weighted point system, and evaluation criteria. Each alternative will be used in concert with the Western Pacific Community eligibility criteria as published in the Federal Register on April 16, 2002 (67 FR 18512). The Council's preferred alternative adopted by the Council will be incorporated into the existing draft framework amendment “Measure to Establish Eligibility Criteria for New Entry into the Northwestern Hawaiian Islands Mau Zone Limited Access System”. A revised framework regulatory amendment, incorporating a CDP permit issuance process, will be presented to the Council for final action at a subsequent Council meeting in 2003.

Thursday, February 13, 2002

11. Pelagic Fisheries

A. Quarterly 2002 Hawaii and American Samoa longline reports

B. American Samoa limited entry program

C. Recreational fisheries

(1) CNMI recreational fisheries

(2) RECFISH 2003

D. Bycatch conservation and management

(1) Honolulu lab mitigation turtle research

(2) Southern longline closure

On June 12, 2002, a final rule was published that implemented the reasonable and prudent alternative (RPA) of a Biological Opinion issued by NMFS on March 29, 2001. The Biological Opinion concluded that the actions of the Hawaii-based longline fleet were likely to jeopardize the continued existence of Pacific populations of green, loggerhead and leatherback turtles. One of the measures included in the reasonable and prudent alternatives for the fishery to operate without jeopardy was a closure of southern fishing grounds below 15° N. lat. during the months of April and May. The April and May closure denied access to the Hawaii-based longline fleet to grounds at a time when tuna were seasonally abundant. While some form of seasonal area closure may need to remain in effect, there may be options for a more limited closure that would have the same turtle conservation effects as the current large-scale closure, but be less onerous for the Hawaii-based longline fleet. The Council will consider alternatives for modifying the seasonal area closure and may take preliminary action at this meeting. Public comment will be solicited from the public prior to the Council's decision.

(3) Line clippers/bolt cutters

On November 15, 2002, NMFS issued a new Biological Opinion for the operation of pelagic fisheries in the Western Pacific Region and interactions with turtle and marine mammal species protected under the Endangered Species Act. The 2002 Biological Opinion does not contain any new requirements for pelagic fishing vessels, however it does appear to remove requirements for non-longline vessels to carry line clippers and bolt cutters, as well as adjusting handling requirements for longline vessel operators that encounter sea turtles. A range of options are available to the Council in response to the change in requirements that has resulted from the issuance of this new Biological Opinion. These include maintaining the current non-longline vessel requirements for line clippers, bolt cutters, and sea turtle handling procedures for longline vessels; or adjusting the non-longline requirements for line clippers and bolt cutters, and the sea turtle handling procedures for longline boats. At the 116th Council meeting, the Council took preliminary action on a preferred alternative to remove requirements for line clippers and bolt cutters, and to clarify the sea turtle handling procedures for longline boats. The Council may take final action on this preferred alternative, and comments from the public will be solicited prior to the Council's decision.

(4) Report on CNMI turtles

(5) Longline setting chute

On June 12, 2001, a final rule was published implementing the terms and conditions of a Biological Opinion issued by the USFWS on November 28, 2000. These measures apply to all Hawaii-based longline vessels and consist of the following requirements: When fishing above 23° N. lat., vessel operators must: completely thaw and dye all bait blue before using it; discharge spent bait and fish parts to distract seabirds while setting or hauling the gear (strategic offal discard); use a line shooter or line setting machine with weighted branch lines to set the gear; follow handling guidelines for seabirds hooked or entangled in fishing gear. On November 18, 2002, the USFWS issued a new Biological Opinion. This new Biological Opinion does not add or delete any measures. However, it does include a conservation recommendation stating that the FWS will consider the use of underwater setting chute as a seabird mitigation measure after the device is used voluntarily and successfully on Hawaii-based longline vessels. The new Biological Opinion also states that the blue dyed bait requirement will be reconsidered if it is shown that it does not provide additional protection to seabirds. Results of recent trials with an underwater setting chute on an Hawaiian longline vessel in 2002 showed that the device is virtually 100 percent effective in eliminating interactions between seabirds and the Hawaii-based longline fishery when used with a line shooter and weighted branch lines. Given the success of this new technology, a range of options is available to the Council to re-address the issue of seabird interactions with this fishery. These include: maintaining all current requirements; adding an option to use underwater setting chutes when fishing north of 23° N. lat. (keeping requirements for blue dyed bait, strategic offal discards and handling guidelines); or adding an option to use underwater setting chutes when fishing north of 23° N. lat. instead of blue dyed bait, and strategic offal discards when setting (keeping handling guidelines and requirements to use strategic offal discards when hauling). The Council may take preliminary action and select a preferred alternative at this Council meeting. Comments will be solicited from the public prior to the Council's decision.

(6) Litigation

E. International Fishers Forum

F. Public hearing on regulatory changes for line clippers and bolt cutters

12. Bottomfish

A. Report on CNMI fisheries

B. Guam offshore bottomfish management

C. Public hearing on Guam offshore bottomfish management

The Council will consider alternatives and intends to take initial action to manage Guam's offshore bottomfish fishery. The Council considered preliminary considered management options at its 115th Council meeting in October 2002, and will be presented revised options including an alternative to prohibit harvest of bottomfish management unit species (BMUS) on vessels longer than 42 ft (12.8 m) that fish in Federal waters within 50 miles from shore. The Council also intends to consider requiring Federal permits and reports for vessels over 42 ft (12.8 m) in length that harvest bottomfish management unit species (BMUS).

Recent entry of larger vessels into the Guam bottomfish fishery has raised concerns regarding data collection gaps and resource status. These vessels harvest deep-slope species on offshore seamounts (or “banks”) in Federal waters, land the bottomfish at Guam's commercial port, and export the bottomfish to Japan. Neither the level of fishing effort nor the amount of bottomfish harvested, which is believed to have started in 2001, is known. Guam's creel survey does not cover fish landed at the commercial port and the exported fish are not sold through any establishments that participate in the voluntary sales ticket monitoring program. Onaga (Etelis coruscans) appears to be the primary species that is targeted.

The southern banks have been fished for many years by Guam-based bottomfish fishermen using smaller vessels that engage in a mix of subsistence, recreational, and small-scale commercial fishing, particularly in the summer months, when weather conditions tend to be calmer. Most of the vessels fishing on the southern banks target the shallow-water bottomfish complex, but some target the deep-water complex.

It is unknown at this time whether the new component of the fishery is having significant impacts on marine resources. Initial discussions with fishery managers and Guam's fishing community (through a public scoping meeting held in Guam August 8, 2002) indicate that the catch of fish by this new component may lead to localized overfishing of the bank area.

The Council will also consider additional options to expand the action to include targeting pelagic management unit species (PMUS). Larger vessels targeting PMUS in the EEZ surrounding Guam must also land fish in the commercial port due to the smaller harbors' inability to accommodate such large vessels. The same issues regarding harbors' collecting data from large bottomfish vessels apply to large vessels targeting and landing other species, such as pelagics.

12. Program planning

A. Legislation

B. NOAA Pacific Island Region

C. Cooperative research

D. Council program

E. Social science research planning

F. Indigenous working group

13. Administrative matters

A. Financial reports

B. Administrative reports

C. Upcoming meetings and workshops

D. Advisory Panel, SSC, Plan Team, NWHI Reserve and Sea Turtle Working Group Appointments

14. Other Business

Although non-emergency issues not contained in this agenda may come before the Council for discussion, those issues may not be the subject of formal Council action during this meeting. Council action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, 808-522-8220 (voice) or 808-522-8226 (fax), at least 5 days prior to the meeting date.

Authority: 16 U.S.C. 1801 et seq.

Dated: January 23, 2003.
Richard W. Surdi,
Acting Director, Office of Sustainable Fisheries, National Marine Fisheries Service.

[FR Doc. 03-1976 Filed 1-28-03; 8:45 am]

BILLING CODE 3510-22-S